DEPARTMENT OF ENERGY

[DE-PS07-02ID14308]

Glass Industry of the Future

AGENCY: Idaho Operations Office, DOE.

ACTION: Notice of Competitive Financial Assistance Solicitation.

SUMMARY: The U.S. Department of Energy (DOE) Idaho Operations Office (ID) is seeking applications for cost-shared research, development and demonstration of innovative glass technologies that will reduce energy consumption, reduce environmental impacts, and enhance economic competitiveness in the U.S. glass industry.

The proposed research and development (R&D) projects must address priorities as identified in the Glass Industry Technology Roadmap (http://www.oit.doe.gov/glass/pdfs/glass2002roadmap.pdf). Proposals must address at least one of the four priority areas in the Roadmap: Production Efficiency, Energy Efficiency, Environmental Performance and Innovative Uses, and must have a high-energy efficiency component.

DATES: The issuance date of Solicitation Number DE-PS07-02ID14308 will be on or about August 5, 2002. The application, SF 424, technical proposal, and the Energy Savings Estimator Impact Table, must have an IIPS transmission time stamp of not later than 3 p.m. MST on Friday, September 27, 2002. Late applications will not be considered.

ADDRESSES: Completed applications are required to be submitted via the U.S. Department of Energy Industry Interactive Procurement System (IIPS) at the following URL: ­ http://e-center.doe.gov.

FOR FURTHER INFORMATION CONTACT: Elizabeth Dahl, Contract Specialist at dahlee@id.doe.gov, facsimile at (208) 526-5548, or by telephone at (208) 526-7214.

SUPPLEMENTARY INFORMATION: DOE anticipates making approximately 4 to 6 cooperative agreement awards under this solicitation with a maximum estimated DOE funding of $350,000 per year for each cooperative agreement up to a three-year period, subject to the availability of funds. Approximately $5 million in federal funds are expected to be available to fund selected research projects over the three-year period. A minimum 50% non-federal cost share is required for research and development projects over the life of the project. The solicitation is available in its full text via the Internet at the following address: http://e-center.doe.gov. The statutory authority for this program is the Federal Non-Nuclear Energy Research and Development Act of 1974 (Pub. L. 93-577). The Catalog of Federal Domestic Assistance (CFDA) Number for this program is 81.086, Conservation Research and Development.

Issued in Idaho Falls on August 5, 2002.
R. J. Hoyles,
Director, Procurement Services Division.

[FR Doc. 02-20458 Filed 8-12-02; 8:45 am]

BILLING CODE 6450-01-P